DEPARTMENT OF THE INTERIOR

Minerals Management Service

Agency Information Collection Activities: Submitted for Office of Management and Budget (OMB) Review; Comment Request

AGENCY: Minerals Management Service (MMS), Interior.

ACTION: Notice of extension of an information collection (1010-0067).

SUMMARY: To comply with the Paperwork Reduction Act of 1995 (PRA), we are notifying the public that we are submitting to OMB an information collection request (ICR) to renew approval of the paperwork requirements in the regulations under 30 CFR 250, Subpart E, Oil and Gas Well-Completion Operations. This notice also provides the public a second opportunity to comment on the paperwork burden of these regulatory requirements.

DATES: Submit written comments by November 1, 2007.

ADDRESSES: You may submit comments either by fax (202) 395-6566 or e-mail (OIRA_DOCKET@omb.eop.gov) directly to the Office of Information and Regulatory Affairs, OMB, Attention: Desk Officer for the Department of the Interior (1010-0067). Mail or hand carry a copy of your comments to the Department of the Interior; Minerals Management Service; Attention: Cheryl Blundon; Mail Stop 4024; 381 Elden Street; Herndon, Virginia 20170-4817. If you wish to e-mail your comments to MMS, the address is: rules.comments@mms.gov. Reference Information Collection 1010-0067 in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR Part 250, Subpart E, Oil and Gas Well-Completion Operations.

OMB Control Number: 1010-0067.

Abstract: The Outer Continental Shelf (OCS) Lands Act, 43 U.S.C. 1331 et seq. and 43 U.S.C. 1801 et seq., requires the Secretary of the Interior to preserve, protect, and develop oil and gas resources in the OCS in a manner that is consistent with the need to make such resources available to meet the Nation's energy needs as rapidly as possible; balance orderly energy resources development with protection of the human, marine, and coastal environment; ensure the public a fair and equitable return on OCS resources; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

This authority and responsibility are among those delegated to the Minerals Management Service (MMS). To carry out these responsibilities, MMS issues regulations governing oil and gas and sulphur operations in the OCS. This information collection request (ICR) addresses 30 CFR Part 250, Subpart E, Oil and Gas Well-Completion Operations and the associated supplementary Notices to Lessees and Operators (NTL) intended to provide clarification, description, or explanation of these regulations.

The MMS District Managers analyze and evaluate the information and data collected under Subpart E to ensure that planned well-completion operations will protect personnel and natural resources. They use the analysis and evaluation results in the decision to approve, disapprove, or require modification to the proposed well-completion operations. Specifically, MMS uses the information to ensure: (a) Compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits.

Previously, the Gulf of Mexico Region (GOMR) met with the Offshore Operators Committee (OOC) several times to discuss conditions that required a variance from the requirements of § 250.517. The OOC recommended that sustained casing pressure (SCP) be divided into two broad categories: Production casing SCP that can be eliminated relatively easily and SCP on outer casings where no consistently successful solution has been developed. They also recommended criteria for classifying SCP. Since the initial meeting, MMS continues to work with OOC and API regularly to formulate new practices. As a result of these meetings, MMS issued an NTL to clarify and update the current GOMR procedures and requirements necessary to monitor and report SCP conditions. This NTL also gives guidance on the process for obtaining a departure to produce wells with SCP. MMS district and regional offices will use the information to determine whether production from wells with SCP continues to afford the greatest possible degree of safety under these conditions.

Responses are mandatory. No questions of a “sensitive” nature are asked. The MMS protects information considered proprietary according to 30 CFR 250.197, “Data and information to be made available to the public or for limited inspection” and 30 CFR part 252, “OCS Oil and Gas Information Program”.

Frequency: Varies by section, but is mostly “on occasion” or annual.

Estimated Number and Description of Respondents: Approximately 130 respondents consist of Federal OCS lessees and operators.

Estimated Reporting and Recordkeeping “Hour” Burden: The estimated annual “hour” burden for this information collection is a total of 18,756 hours. The following chart details the individual components and estimated hour burdens. In calculating the burdens, we assumed that respondents perform certain requirements in the normal course of their activities. We consider these to be usual and customary and took that into account in estimating the burden.

Citation 30 CFR 250 subpart E & LTL/NTL | Reporting requirement | Hour burden | Average number of annual responses | Annual burden hours
Requests
502 | Request approval not to shut-in well during equipment movement | 1 hour | 106 requests | 106
512 | Request field well-completion rules be established, amended or canceled (on occasion, however, there have been no requests in many years) | 1 hour | 2 requests | 2
500-517 | General departure and alternative compliance requests not specifically covered elsewhere in Subpart E regulations | 2 hours | 500 requests | 1,000
Subtotal |  |  | 608 responses | 1,108
Submittals
505; 513; 515(a); NTL | Submit forms MMS-123, MMS-124, MMS-125 for various approvals, including remediation procedure for SCP | Burden included in 1010-0141 |  | 0
514(c); 515(a) | Calculate well control fluid volume and post near operator's station; submit well-control procedure | 1 hour | 338 procedures | 338
517(b) | Pressure test, caliper, or otherwise evaluate tubing & wellhead equipment casing; submit results (every 30 days during prolonged operations) | 9 hours | 399 reports | 3,591
Subtotal |  |  | 737 responses | 3,929
Document/Record/Retain
506 | Instruct crew members in safety requirements of operations to be performed; document meeting (weekly for 2 crews × 2 weeks per completion = 4) | 20 minutes | 838 completions × 4 = 3,352 | ¹ 1,117
511 | Perform operational check of traveling-block safety device; document results (weekly × 2 weeks per completion = 2) | ½ hour | 938 completions × 2 = 1,876 | 938
LTL* | Record diagnostic test results | ½ hour | 3,020 tests/recordings | 1,510
516 tests; 516(i),(j) | Record BOP test results; retain records 2 years following completion of well (when installed; minimum every 7 days; as stated for component); request alternative methods | ½ hour | 1,048 completions | 524
516(d)(5) test; 516(i) | Function test annulars and rams; document results (every 7 days between BOP tests—biweekly; note: part of BOP test when conducted) | ½ hour | 1,048 completions | 524
516(e) | Record reason for postponing BOP system tests (on occasion) | 10 minutes | 58 postponed tests | ¹ 10
516(f) | Perform crew drills; record results (weekly for 2 crews × 2 weeks per completion = 4) | ½ hour | 1,048 completions × 4 = 4,192 | 2,096
LTL | Retain complete record of well's casing pressure for 2 years and retain diagnostic test records permanently | 1 hour | 2,990 records | 2,990
Subtotal |  |  | 17,584 responses | 9,709
Notify
502 | Notify MMS of well-completion rig movement on or off platform or from well to well on same platform (Form MMS-144) (cross ref. § 250.403) | Burden included in 1010-0150. |  | 0
517(c); LTL/NTL | Notify MMS if sustained casing pressure is observed on a well | 1 hour | 900 notices | 900
LTL/NTL | Report failure of casing pressure to bleed to zero including plan to remediate | 6 hours | 500 submissions | 3,000
NTL | Notify MMS when remediation procedure is complete | 1 hour | 110 notices | 110
Subtotal |  |  | 1,510 responses | 4,010
Total Hour Burden |  |  | 20,439 responses | 18,756
* LTL dated 13 January 1994.
¹ (rounded)

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 29, 2007, we published a Federal Register notice (72 FR 4025) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by November 1, 2007.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: May 11, 2007.
E.P. Danenberger,
Chief, Office of Offshore Regulatory Programs.

Editorial Note: This document was received at the Office of the Federal Register on September 26, 2007.

[FR Doc. E7-19375 Filed 10-1-07; 8:45 am]

BILLING CODE 4310-MR-P